DEPARTMENT OF EDUCATION

Submission for OMB Review; Comment Request

AGENCY: Department of Education.

SUMMARY: The Leader, Regulatory Information Management Group, Office of the Chief Information Officer invites comments on the submission for OMB review as required by the Paperwork Reduction Act of 1995.

DATES: Interested persons are invited to submit comments on or before January 19, 2001.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address Lauren_Wittenberg@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Regulatory Information Management Group, Office of the Chief Information Officer, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: December 14, 2000.
John Tressler,
Leader, Regulatory Information Management, Office of the Chief Information Officer.

Office of Elementary and Secondary Education

Type of Review: New.

Title: Reading Excellence Act (REA) State-District-School Study.

Frequency: Semi-Annually; Annually.

Affected Public: State, Local, or Tribal Gov't, SEAs or LEAs.

Reporting and Recordkeeping Hour Burden:

Responses: 1,623.

Burden Hours: 8,592.

Abstract: REA provides competitive reading and literacy grants to state education agencies (SEA) to help high-proverty schools and those in Title I improvement status to: (1) Teach every child to read by the end of the third grade; (2) provide children in early childhood with the readiness skills and support they need to learn to read once they enter school; (3) expand the number of high-quality family literacy programs; (4) provide early intervention to children who are at risk of being identified for special education inappropriately; and (5) base instruction, including tutoring, on scientifically-based reading research. The first cohort of 17 states was funded in the summer of 1999. The REA State-District-School Study fulfills the states' performance reporting requirements. In addition, the study will (1) collect and analyze demographic and descriptive information on REA states, districts and schools in order to provide a contextual backdrop and sampling for two national evaluations—the School and Classroom Implementation and Impact (SCII) study and the Children's Reading Gains (Gains) study; (2) compare eligible but not funded with funded districts and schools; (3) augment the agency's REA monitoring within each SEA, local education agencies (LEA), and school; (4) track performance over time; (5) inform the states' development of indicators of program quality; and (6) provide data for the National Institute for Literacy's effort to disseminate information on effective subgrantee projects.

Requests for copies of the proposed information collection request may be accessed from http://edicsweb.ed.gov, or should be addressed to Vivian Reese, Department of Education, 400 Maryland Avenue, SW, Room 4050, Regional Office Building 3, Washington, D.C. 20202-4651. Requests may also be electronically mailed to the internet address OCIO_IMG_Issues@ed.gov or faxed to 202-708-9346. Please specify the complete title of the information collection when making your request.

Comments regarding burden and/or the collection activity requirements should be directed to Kathy Axt at her internet address Kathy_Axt@ed.gov. Individuals who use a telecommunications device for the deaf (TDD) may call the Federal Information Relay Service (FIRS) at 1-800-877-8339.

[FR Doc. 00-32356 Filed 12-19-00; 8:45 am]

BILLING CODE 4000-01-P